DEPARTMENT OF TRANSPORTATION

Federal Aviation Administration

14 CFR Parts 43, 65, and 147

[Docket No.: FAA-2021-0237; Amdt. No. 43-52A, 65-63A, 147-9A]

RIN 2120-AL67

Aviation Maintenance Technician Schools

AGENCY: Federal Aviation Administration (FAA), Department of Transportation (DOT).

ACTION: Final rule.

SUMMARY: The interim final rule (IFR), “Aviation Maintenance Technician Schools,” published on May 24, 2022, and established new regulations for issuing aviation maintenance technician school (AMTS) certificates and associated ratings and the general operating rules for the holders of those certificates and ratings. The IFR was issued pursuant to the Aircraft Certification, Safety, and Accountability Act. In this final rule, the FAA responds to comments to the IFR without making further modifications to the requirements.

DATES: Effective June 13, 2023.

ADDRESSES: For information on where to obtain copies of rulemaking documents and other information related to this final rule, see “Additional Information” in the SUPPLEMENTARY INFORMATION section of this document.

FOR FURTHER INFORMATION CONTACT: For technical questions concerning this action, contact Tanya Glines, Aircraft Maintenance Division, Federal Aviation Administration, 800 Independence Avenue SW, Washington, DC 20591; telephone (202) 380-5896; email Tanya.Glines@faa.gov.

SUPPLEMENTARY INFORMATION:

I. Authority for This Rulemaking

The FAA's authority to issue rules on aviation safety is found in Title 49 of the United States Code. Subtitle I, Section 106 describes the authority of the FAA Administrator. Subtitle VII, Aviation Programs, describes in more detail the scope of the FAA's authority.

This rulemaking is issued under the authority described in Title 49, subtitle VII, part A, subpart I, chapter 401, section 40113 (prescribing general authority of the Administrator of the FAA, with respect to aviation safety duties and powers, to prescribe regulations); and Subpart III, Chapter 447, Sections 44701 (general authority of the Administrator to prescribe regulations and minimum standards in the interest of safety for inspecting, servicing, and overhauling aircraft, engines, propellers, and appliances, including for other practices, methods, and procedures necessary for safety in air commerce); 44702 (authority of the Administrator to issue air agency certificates); 44703 (authority of the Administrator to issue airman certificates); 44707 (authority of the Administrator to examine and rate air agencies, including civilian schools giving instruction in repairing, altering, and maintaining aircraft, aircraft engines, propellers, and appliances, on the adequacy of instruction, the suitability and airworthiness of equipment, and the competency of instructors); and 44709 (authority of the Administrator to amend, modify, suspend, and revoke air agency and other FAA-issued certificates).

This rule is further issued under Section 135 of the Aircraft Certification, Safety, and Accountability Act in Public Law 116-260, the Consolidated Appropriations Act of 2021. Section 135, titled “Promoting Aviation Regulations for Technical Training,” provides the requirements and terms of this rule.

II. Background

On December 27, 2020, President Donald Trump signed the Consolidated Appropriations Act (Pub. L. 116-260) into law, which includes the Aircraft Certification, Safety, and Accountability Act (the “Act”). Section 135 of the Act, titled “Promoting Aviation Regulations for Technician Training,” directed the FAA to issue interim final regulations to establish requirements for issuing aviation maintenance technician school (AMTS) certificates and associated ratings and the general operating rules for the holders of those certificates and ratings, in accordance with the requirements set forth within Section 135. In accordance with this direction, the FAA published an IFR titled “Aviation Maintenance Technician Schools” on May 24, 2022 (“the IFR”).¹ In the IFR, the FAA replaced the regulations in part 147, which prescribe the requirements for the certification and operation of FAA-certificated AMTS, with new regulations that conform to the Act.

¹ Interim Final Rule, Aviation Maintenance Technician Schools, 87 FR 31391 (May 24, 2022).

Pursuant to the Act, the FAA issued the IFR, including requirements addressing:

• When an AMTS certificate is required;

• Application requirements for AMTS certificates and associated ratings, additional ratings, and changes to certificates;

• Operations specifications and their contents;

• The duration of a certificate or rating issued under part 147;

• The ratings that an AMTS may obtain under part 147;

• AMTS facilities, equipment, and material;

• Training provided at another location;

• AMTS training and curricula;

• Instructors;

• Certificates of completion;

• Quality control systems;

• The minimum passage rate each school must maintain;

• FAA inspections;

• The display of part 147 certificates; and

• A student's ability to take the FAA's general written test prior to satisfying the experience requirements of § 65.77, provided certain conditions are met.

The FAA also made conforming amendments to parts 43 and 65 to effectuate the legislation. Specifically, the FAA amended Appendix A to part 43 to remove a cross-reference to previous § 147.21 referring to certificates of competency for the affected aircraft. An AMTS that requests an approval, or an AMTS that currently holds an approval originally issued under previous § 147.21(e), of special courses in the performance of special inspection and preventive maintenance programs for a primary category aircraft may issue a certificate of competency as “another entity that has a course approved by the Administrator” in accordance with new paragraph (c)(30)(i)(2) in Appendix A to part 43. Additionally, § 65.80 was amended to remove reference to an AMTS's “approved” curriculum as it existed prior to the IFR, thereby allowing AMTS students to continue testing under § 65.80. Finally, the FAA's implementation of § 147.17 and incorporation by reference of the Mechanic ACS into part 147 necessitated conforming revisions to §§ 65.23, 65.75, and 65.79.

Section 135 of the Act stated that part 147 as it existed at the time of the legislation would have no force or effect on or after the effective date of the IFR. Therefore, as of the effective date of the IFR, which was September 21, 2022, all AMTSs that were certificated under prior part 147 were required to comply with part 147 as established by the IFR. Additionally, the FAA terminated all AMTS-related exemptions in existence prior to the effective date of the AMTS IFR since the majority of the grounds for the requested relief were cured by the IFR.

III. Discussion of Comments and the Final Rule

The FAA received six comments in response to the IFR and one comment in response to the regulatory impact analysis (RIA).² Six comments were submitted by individuals. One comment was submitted by the Middle Georgia State University, Aviation Maintenance and Structural Technology Department (“Middle Georgia State University”). Commenters questioned the compliance timeline and how the requirements should or will be implemented by an individual AMTS. In addition, three comments fall outside of the scope of the IFR. Because the FAA was statutorily directed to implement the provisions set forth by the Act, this final rule retains the requirements published in the IFR without any further modification. However, the FAA responds to the comments in the following sections.

² After the IFR published, the FAA became aware that the regulatory evaluation (also referred to as the regulatory impact analysis) for the IFR was not made available at the time the IFR published. On March 15, 2023, the FAA published a notice in the Federal Register reopening the comment period on the IFR for 30 days specifically to receive comments on the RIA (88 FR 15905). The comment period closed on April 14, 2023.

a. Effective Date

One individual expressed confusion on the relationship between the effective date of the IFR and the testing effectivity dates in the regulations. Specifically, the commenter asked whether the effective date for written exam requirements is September 2022 or 2023.

The IFR was published on May 24, 2022, and set forth an effective date of September 21, 2022, to implement the new requirements in the rule, except for certain testing standards under part 65 that are effective on August 1, 2023. Specifically, the Mechanic Practical Test Standards (Mechanic PTS) ³ is the testing standard until July 31, 2023, pursuant to §§ 65.75(a) and 65.79. This means that up until July 31, 2023, an applicant for a mechanic certificate or rating will be tested on the areas in the Mechanic PTS for the written, oral, and practical tests. After July 31, 2023, pursuant to §§ 65.75(a) and 65.79, the FAA will use the Aviation Mechanic General, Airframe, and Powerplant Airman Certification Standards (Mechanic ACS) ⁴ as the standards for conducting mechanic tests. As explained in the preamble to the IFR, the FAA finds that a one-year delay in using the Mechanic ACS as the testing standard allows each AMTS to train its students under the curriculum aligned with the Mechanic ACS, as required by § 147.17(a)(1), and prepare students to take a knowledge, practical, and oral test based on such.

³ FAA-S-8081-26B, Aviation Mechanic General, Airframe, and Powerplant Practical Test Standards dated November 1, 2021; incorporated by reference in § 65.23.

⁴ FAA-S-ACS-1, Aviation Mechanic General, Airframe, and Powerplant Airman Certification Standards dated November 1, 2021; incorporated by reference in § 65.23.

In sum, the effective dates for the IFR are as follows:

• September 21, 2022, general IFR effective date;

• August 1, 2023, the Mechanic ACS becomes the testing standard for the written test, pursuant to § 65.75(a); and

• August 1, 2023, the Mechanic ACS becomes the testing standard for the oral test and practical test, pursuant to § 65.79.

b. Implementation

Middle Georgia State University generally supported the IFR but expressed concern that the rule did not set forth a provision for students to finish under the curriculum they started. The institution described that, within its university system, it generally allows students a period in which to finish under the academic catalog in which they started, termed a “teach out” period. The institution stated that it currently has four cohorts of students at various points in its part 147 curriculum, and the transition to the new regulations would be less temporally and economically burdensome if there existed a regulatory “teach out” period or an exemption or process to allow such. Two individual commenters questioned whether students already within programs would have to retake certain courses or enroll in additional classes to meet the requirements of the new part 147 curriculum. These commenters recommended that part 147 be amended to impact only new students entering the program, specifically those students entering after August 2022. One of the commenters also inquired whether the FAA 8083 AMT textbooks ⁵ would be updated to parallel the implementation timeline of the IFR.

⁵ The commenter uses the term “textbook”; however, the FAA-H-8083s are properly categorized as handbooks.

The Act that set forth the new part 147 regulations did not provide for any type of transition period for AMTSs to implement the new regulations, including the use of an ACS-based curriculum. In fact, the Act specifically stated that upon the effective date of the new regulations, part 147 as in effect on the enactment of the Act would have no force or effect.⁶ Because the Act did not provide for a transition period, retroactive training requirements, or exclusion provisions to account for a curriculum change, the FAA was unable to provide for a curriculum transition period between the old and new requirements. Therefore, AMTSs were required to use and maintain a curriculum aligning with the Mechanic ACS beginning September 21, 2022. Training previously conducted under the FAA-approved curriculum may have aligned with the Mechanic ACS and would be considered valid training that does not have to be retrained by the AMTS or retaken by the student.

⁶ See Section 135(a)(2).

In other words, the prior FAA-approved curriculums were based on current part 147 appendices A, B, C, and D (Curriculum Requirements, General Curriculum Subjects, Airframe Curriculum Subjects, Powerplant Curriculum Subjects, respectively). The curriculum elements in those appendices were broad, and it is likely that many elements defined in the ACS were substantively taught by an AMTS via its FAA-approved curriculum, even if they may not be explicitly defined (e.g., a curriculum lesson plan may have more detailed content information). The specific AMTS is best situated to know what course content is taught for each subject, whether it does or does not align with the mechanic ACS, and if additional training is required.

In sum, the FAA does not have the statutory authority to revise the IFR to provide for a transition period in this final rule. As discussed in the IFR,⁷ the exemption process set forth in part 11 of Title 14 of the Code of Federal Regulations (CFR) remains an option for an AMTS who seeks relief from the requirements of a current regulation.

⁷ See 87 FR 31394, which explains that the contemplation of regulatory exemptions in the Act demonstrates that Congress intended that the FAA retain the authority to issue exemptions from part 147, as warranted under the Administrator's statutory authority and 14 CFR part 11.

The FAA continually works to ensure FAA published handbooks represent accurate and current information and is currently working on updates to the five maintenance technician handbooks ⁸ to align with the Mechanic ACS. However, the FAA notes that handbooks are not the primary source for testing standards. Rather, the handbooks are intended to be a supplemental resource to prepare for FAA certification tests and improve knowledge.

⁸ (1) FAA-H-8083-30, Aviation Maintenance Technician Handbook—General; (2) FAA-H-8083-31, Aviation Maintenance Technician Handbook—Airframe Volume 1; (3) FAA-H-8083-31, Aviation Maintenance Technician Handbook—Airframe Volume 2; (4) FAA-H-8083-32, Aviation Maintenance Technician Handbook—Powerplant Volume 1; (5) FAA-H-8083-32, Aviation Maintenance Technician Handbook—Powerplant Volume 2.

c. Out of Scope Comments

The FAA received three comments to the IFR that are outside the scope created by the Act.

One commenter suggested three amendments to the IFR. First, the commenter recommended that AMTS be required to issue a certificate of completion within a reasonable time after a student completes a program in order to meet the 60-day window to take the written test. Second, the commenter stated that the subject areas incorporated by reference into part 147 (i.e., the subject areas in the Mechanic ACS that an AMTS must align their curriculum with) can be mastered in half of the required hours and, therefore, the Airframe and Powerplant hour requirement should be reduced by 20 percent. Finally, the commenter recommended that part 147 should encourage remote learning methods.

These recommendations lie outside the scope of this rulemaking, as the FAA was required to set forth requirements that conformed only to the Act, resulting in the IFR. The FAA notes that the IFR is not prescriptive in any of the areas addressed by the commenter and, therefore, each AMTS has the flexibility to define its policy and procedures regarding areas such as timeframes for certificate issuance, curriculum hour requirements, and the use of remote learning methods.

Another commenter questioned the usage of the term “satisfactory to the Administrator,” stating that use of the phrase implies the regulation is governed by a person instead of the law. The commenter refers specifically to the phrase set forth in § 65.77(b), stating that documentary evidence, satisfactory to the Administrator, is required to demonstrate an applicant has met the applicable experience requirements.

Title 49 of the United States Code grants the Administrator of the FAA the authority to conduct investigation to ensure an individual is qualified for the duties related to the position authorized by an FAA airman certificate and prescribe regulations and minimum standards in the interest of safety.⁹ This authority is extrapolated to require documentary evidence that a person is sufficiently qualified before being issued an FAA certificate, as is the case in § 65.77. Section 65.77, as referenced by the commenter, actually functions to provide flexibility to an applicant by declining to restrict documentary evidence to a degree of specificity. For example, On-the-Job (OJT) training records, a letter from an employer or A&P mechanic, or a statement from a Civil Aviation Authority attesting to experience are regularly accepted by the FAA as evidence of practical experience, among other documentary evidence.¹⁰ The FAA recognizes that there are various ways in which an individual's experience could be documented, and, therefore, it is unrealistic to require a prescriptive method of documentation within the regulation.

⁹ 49 U.S.C. 44703. See also Section I of this preamble.

¹⁰ FAA Order 8900.1, Volume 5, Chapter 5, Section 2.

Finally, the FAA received one comment during the re-opening of the comment period that sought comments on the RIA, specifically. The comment detailed challenges that non-part 147 certificated technician schools may face and is considered outside the scope of this rulemaking.

IV. Regulatory Notices and Analyses

Federal agencies consider impacts of regulatory actions under a variety of executive orders and other requirements. First, Executive Order 12866 and Executive Order 13563, as amended by Executive Order 14094 (“Modernizing Regulatory Review”), direct that each Federal agency shall propose or adopt a regulation only upon a reasoned determination that the benefits of the intended regulation justify the costs. Second, the Regulatory Flexibility Act of 1980 (Pub. L. 96-354) requires agencies to analyze the economic impact of regulatory changes on small entities. Third, the Trade Agreements Act (Pub. L. 96-39) prohibits agencies from setting standards that create unnecessary obstacles to the foreign commerce of the United States. Fourth, the Unfunded Mandates Reform Act of 1995 (Pub. L. 104-4) requires agencies to prepare a written assessment of the costs, benefits, and other effects of proposed or final rules that include a Federal mandate that may result in the expenditure by State, local, and tribal governments, in the aggregate, or by the private sector, of $100,000,000 or more (adjusted annually for inflation) in any one year. The current threshold after adjustment for inflation is $177,000,000, using the most current (2022) Implicit Price Deflator for the Gross Domestic Product. The FAA has provided a detailed Regulatory Impact Analysis (RIA) in the docket for this rulemaking that was published with the IFR. This portion of the preamble summarizes the FAA's analysis of the economic impacts of this rule.

In conducting these analyses, the FAA has determined that this rule: will result in benefits that justify costs; is not significant as defined in section 3(f)(1) of Executive Order 12866; will not have a significant economic impact on a substantial number of small entities; will not create unnecessary obstacles to the foreign commerce of the United States; and will not impose an unfunded mandate on State, local, or tribal governments, or on the private sector.

A. Regulatory Impact Analysis

This final rule makes no changes to the Regulatory Impact Analysis (RIA) that was prepared for the IFR. The RIA may be found in the docket.

B. Regulatory Flexibility Act

The Regulatory Flexibility Act (RFA), in 5 U.S.C. 603, requires an agency to prepare an initial regulatory flexibility analysis describing impacts on small entities whenever an agency is required by 5 U.S.C. 553, or any other law, to publish a general notice of proposed rulemaking for any proposed rule. Similarly, 5 U.S.C. 604 requires an agency to prepare a final regulatory flexibility analysis when an agency issues a final rule under 5 U.S.C. 553, after that section or any other law requires publication of a general notice of proposed rulemaking. The FAA notes that this final rule has no additional requirements from the IFR that would add a cost or a cost savings to small entities. In the IFR, the FAA found good cause for not publishing a notice of proposed rulemaking. As prior notice and comment under 5 U.S.C. 553 are not required to be provided in this situation, the analyses in 5 U.S.C. 603 and 604 are also not required.

C. International Trade Impact Assessment

The Trade Agreements Act of 1979 (Pub. L. 96-39), as amended by the Uruguay Round Agreements Act (Pub. L. 103-465), prohibits Federal agencies from establishing standards or engaging in related activities that create unnecessary obstacles to the foreign commerce of the United States. Pursuant to these Acts, the establishment of standards is not considered an unnecessary obstacle to the foreign commerce of the United States, so long as the standard has a legitimate domestic objective, such as the protection of safety, and does not operate in a manner that excludes imports that meet this objective. The statute also requires consideration of international standards and, where appropriate, that they be the basis for U.S. standards.

The FAA has assessed the potential effect of this final rule and determined that it has legitimate domestic safety objectives and does not operate in a manner that excludes imports to meet such objectives. Therefore, this final rule complies with the Trade Agreements Act.

D. Unfunded Mandates Assessment

The Unfunded Mandates Reform Act of 1995 (2 U.S.C. 1531-1538) governs the issuance of Federal regulations that require unfunded mandates. An unfunded mandate is a regulation that requires a state, local, or tribal government or the private sector to incur direct costs without the Federal Government having first provided the funds to pay those costs. The FAA determined that this final rule will not result in the expenditure of $177,000,000 or more by State, local, or tribal governments, in the aggregate, or the private sector, in any one year.

E. Paperwork Reduction Act

The Paperwork Reduction Act of 1995 (44 U.S.C. 3507(d)) (PRA) requires that the FAA consider the impact of paperwork and other information collection burdens imposed on the public. According to the 1995 amendments to the Paperwork Reduction Act (5 CFR 1320.8(b)(2)(vi)), an agency may not collect or sponsor the collection of information, nor may it impose an information collection requirement unless it displays a currently valid Office of Management and Budget (OMB) control number.

The FAA has determined that there are new information collections associated with this final rule. The new information collections were described in detail in the IFR.¹¹ Approval to collect such information has been granted by the Office of Management and Budget (OMB) under the provisions of the PRA and the assigned OMB Control Number 2120-0040.

¹¹ See 87 FR 31391 at 31412.

F. International Compatibility and Cooperation

In keeping with U.S. obligations under the Convention on International Civil Aviation, it is FAA policy to conform to International Civil Aviation Organization (ICAO) Standards and Recommended Practices (SARP) to the maximum extent practicable. The FAA has reviewed the corresponding ICAO SARPs and has determined that there are no ICAO SARPs that correspond to this final rule.

However, the FAA identified a filing is required for an ICAO Annex 1 SARP found in Chapter 4 pertaining to certification of maintenance technicians that is unrelated to this rulemaking. Therefore, the FAA has modified an existing difference to reflect that mechanic applicants are not required to have two years of experience in the inspection, servicing, and maintenance of aircraft following the completion of an approved training course to qualify to take the written examination for a mechanic airframe or powerplant license.

G. Environmental Analysis

FAA Order 1050.1F identifies FAA actions that are categorically excluded from preparation of an environmental assessment or environmental impact statement under the National Environmental Policy Act in the absence of extraordinary circumstances. The FAA has determined this rulemaking action qualifies for the categorical exclusion identified in paragraph 5-6.6 and involves no extraordinary circumstances.

V. Executive Order Determinations

A. Executive Order 13132, Federalism

The FAA has analyzed this final rule under the principles and criteria of Executive Order 13132, Federalism. The agency determined that this action will not have a substantial direct effect on the States, or the relationship between the Federal Government and the States, or on the distribution of power and responsibilities among the various levels of government, and, therefore, does not have federalism implications.

B. Executive Order 13175, Consultation and Coordination With Indian Tribal Governments

Consistent with Executive Order 13175, Consultation and Coordination with Indian Tribal Governments,¹² and FAA Order 1210.20, American Indian and Alaska Native Tribal Consultation Policy and Procedures,¹³ the FAA ensures that Federally Recognized Tribes (Tribes) are given the opportunity to provide meaningful and timely input regarding proposed Federal actions that have the potential to have substantial direct effects on one or more Indian tribes, on the relationship between the Federal government and Indian tribes, or on the distribution of power and responsibilities between the Federal government and Indian tribes; or to affect uniquely or significantly their respective Tribes. At this point, the FAA has not identified any unique or significant effects, environmental or otherwise, on tribes resulting from this final rule.

¹² 65 FR 67249 (Nov. 6, 2000).

¹³ FAA Order No. 1210.20 (Jan. 28, 2004), available at www.faa.gov/documentLibrary/media/1210.pdf.

C. Executive Order 13211, Regulations That Significantly Affect Energy Supply, Distribution, or Use

The FAA analyzed this final rule under Executive Order 13211, Actions Concerning Regulations that Significantly Affect Energy Supply, Distribution, or Use (May 18, 2001). The agency has determined that it is not a “significant energy action” under the Executive order and it is not likely to have a significant adverse effect on the supply, distribution, or use of energy.

D. Executive Order 13609, Promoting International Regulatory Cooperation

Executive Order 13609, Promoting International Regulatory Cooperation, promotes international regulatory cooperation to meet shared challenges involving health, safety, labor, security, environmental, and other issues and to reduce, eliminate, or prevent unnecessary differences in regulatory requirements. The FAA has analyzed this action under the policies and agency responsibilities of Executive Order 13609, and has determined that this action would have no effect on international regulatory cooperation.

VI. Additional Information

A. Electronic Access and Filing

A copy of the NPRM, all comments received, this final rule, and all background material may be viewed online at www.regulations.gov using the docket number listed above. A copy of this final rule will be placed in the docket. Electronic retrieval help and guidelines are available on the website. It is available 24 hours each day, 365 days each year. An electronic copy of this document may also be downloaded from the Office of the Federal Register's website at www.federalregister.gov and the Government Publishing Office's website at www.govinfo.gov. A copy may also be found at the FAA's Regulations and Policies website at www.faa.gov/regulations_policies.

Copies may also be obtained by sending a request to the Federal Aviation Administration, Office of Rulemaking, ARM-1, 800 Independence Avenue SW, Washington, DC 20591, or by calling (202) 267-9677. Commenters must identify the docket or notice number of this rulemaking.

All documents the FAA considered in developing this final rule, including economic analyses and technical reports, may be accessed in the electronic docket for this rulemaking.

B. Small Business Regulatory Enforcement Fairness Act

The Small Business Regulatory Enforcement Fairness Act (SBREFA) of 1996 requires the FAA to comply with small entity requests for information or advice about compliance with statutes and regulations within its jurisdiction. A small entity with questions regarding this document may contact its local FAA official, or the person listed under the FOR FURTHER INFORMATION CONTACT heading at the beginning of the preamble. To find out more about SBREFA on the internet, visit www.faa.gov/regulations_policies/rulemaking/sbre_act/.

Issued under authority provided by 49 U.S.C. 106(f), 44701(a), and 44703, and Sec. 135 of the Aircraft Certification, Safety, and Accountability Act within Public Law 116-260, in Washington, DC, on or about June 7, 2023.
Billy Nolen,
Acting Administrator.

The Amendment

Accordingly, the interim rule amending 14 CFR parts 43, 65, and 147, which was published at 87 FR 31391 on May 24, 2022, is adopted as final without change.

[FR Doc. 2023-12382 Filed 6-12-23; 8:45 am]

BILLING CODE 4910-13-P